DEPARTMENT OF HOMELAND SECURITY

Federal Emergency Management Agency

44 CFR Part 67

[Docket ID FEMA-2018-0002; Internal Agency Docket No. FEMA-B-1222]

Proposed Flood Elevation Determinations for Iron County, Utah and Incorporated Areas

AGENCY: Federal Emergency Management Agency, DHS.

ACTION: Proposed rule; withdrawal.

SUMMARY: The Federal Emergency Management Agency (FEMA) is withdrawing its proposed rule concerning proposed flood elevation determinations for Iron County, Utah and Incorporated Areas.

DATES: The proposed rule is withdrawn as of June 14, 2018.

ADDRESSES: You may submit comments, identified by Docket No. FEMA-B-1222 to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov;

SUPPLEMENTARY INFORMATION: On October 6, 2011, FEMA published a proposed rule at 76 FR 62014 and 76 FR 62015, proposing flood elevation determinations along one or more flooding sources in Iron County, Utah and Incorporated Areas. FEMA is withdrawing the proposed rule.

Authority: 42 U.S.C. 4104; 44 CFR 67.4.

David I. Maurstad,
Deputy Associate Administrator for Insurance and Mitigation (Acting), Department of Homeland Security, Federal Emergency Management Agency.

[FR Doc. 2018-12642 Filed 6-13-18; 8:45 am]

BILLING CODE 9110-12-P